INTERNATIONAL TRADE COMMISSION

[Investigation Nos. 731-TA-1334-1337 (Review)]

Emulsion Styrene-Butadiene Rubber From Brazil, Mexico, Poland, and South Korea; Determinations

On the basis of the record ¹ developed in the subject five-year reviews, the United States International Trade Commission (“Commission”) determines, pursuant to the Tariff Act of 1930 (“the Act”), that revocation of the antidumping duty orders on emulsion styrene-butadiene rubber (ESBR) from Brazil, Mexico, Poland, and South Korea would be likely to lead to continuation or recurrence of material injury to an industry in the United States within a reasonably foreseeable time.²

¹ The record is defined in § 207.2(f) of the Commission's Rules of Practice and Procedure (19 CFR 207.2(f)).

² Commissioner Randolph J. Stayin not participating.

Background

The Commission instituted these reviews on August 1, 2022 (87 FR 47001) and determined on November 4, 2022 that it would conduct full reviews (87 FR 76509, December 14, 2022). Notice of the scheduling of the Commission's reviews and of a public hearing to be held in connection therewith was given by posting copies of the notice in the Office of the Secretary, U.S. International Trade Commission, Washington, DC, and by publishing the notice in the Federal Register on December 28, 2022 (87 FR 79905). The Commission conducted its hearing on May 23, 2023. All persons who requested the opportunity were permitted to participate.

The Commission made these determinations pursuant to section 751(c) of the Act (19 U.S.C. 1675(c)). It completed and filed its determinations in these reviews on July 27, 2023. The views of the Commission are contained in USITC Publication 5447 (July 2023), entitled Emulsion Styrene-Butadiene Rubber from Brazil, Mexico, Poland, and South Korea: Investigation Nos. 731-TA-1334-1337 (Review).

By order of the Commission.
Issued: July 27, 2023.
Sharon Bellamy,
Acting Supervisory Hearings and Information Officer.

[FR Doc. 2023-16376 Filed 8-1-23; 8:45 am]

BILLING CODE 7020-02-P